DEPARTMENT OF THE TREASURY

Submission for OMB Review; Comment Request

July 18, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, N.W., Washington, DC 20220.

DATES: Written comments should be received on or before August 25, 2000 to be assured of consideration.

U.S. Secret Service (USSS)

OMB Number: New.

Form Number: SSF 3237.

Type of Review: New collection.

Title: Contractor Personnel Access Application.

Description: Respondents are all Secret Service Contractor personnel requiring access to Secret Service facilities in performance of their contractual duties. These contractors, if approved for access, will required escorted, unescorted, and staff-like access to Secret Service Facilities. Responses to questions on the SSF 3237 yields information necessary for the adjudication of eligibility for facility access.

Respondents: Individuals or households, Business or other for-profit.

Estimated Number of Respondents: 5,000.

Estimated Burden Hours Per Respondent: 15 minutes.

Frequency of Response: Monthly.

Estimated Total Reporting Burden: 1,250 hours.

Clearance Officer: Sandy Bigley (202) 406-6890, U.S. Secret Service 7th Floor 950 H. Street, NW., Washington, DC 20001-4518.

OMB Reviewer: Alexander T. Hunt (202) 395-7860, Office of Management and Budget, Room 10202, New Executive Office Building, Washington, DC 20503.

Lois K. Holland,
Departmental Reports Management Officer.

[FR Doc. 00-18848 Filed 7-25-00; 8:45 am]

BILLING CODE 4810-42-P